DEPARTMENT OF DEFENSE

Department of the Army

Notice of Intent To License Government-Owned Inventions; Intent To License Exclusively

AGENCY: Department of the Army, DoD.

ACTION: Notice.

SUMMARY: The inventions listed below are assigned to the United States Government as represented by the Secretary of the Army. The US Army Edgewood Chemical Biological Center and the US Army Research Laboratory intend to license these inventions exclusively to ANP Technologies, Inc., a Delaware Corporation with principal offices at 824 Interchange Boulevard, Newark, DE 19711. The inventions to be licensed are U.S. Patent No. 6,716,450, issued on April 6, 2004. “Enhancing Protein Activity through Nanoencapsulation,” and US Patent No. 6.773,928, issued on August 10, 2004. “Compositions and methods for enhancing bioassay performance.”

ADDRESSES: Requests for more information and/or objections should be directed to Eric McGill telephone: 410-436-8467, eric.s.mcgill@us.army.mil, US Army Edgewood Chemical Biological Center (ECBC), AMSRD-ECB-PI-BP-TT, Bldg E3330/Rm 241 5183 Blackhawk Road, APG, MD 21010-5424. Any requests of objections should be made within 15 days of the publication of this notice.

FOR FURTHER INFORMATION CONTACT: Dhirajlal Parekh, Office of Research and Technology Applications, US Army Edgewood Chemical Biological Center, AMSRD-ECB-PI-BP-TT, Bldg E3330/Rm 241 5183 Blackhawk Road, APG, MD 21010-5424, telephone: 410-436-8400, e-mail: dhirajlal.parekh@us.army.mil.

SUPPLEMENTARY INFORMATION: None.

Brenda S. Bowen,
Army Federal Register Liaison Officer.

[FR Doc. 2011-13347 Filed 5-27-11; 8:45 am]

BILLING CODE 3710-08-P